ENVIRONMENTAL PROTECTION AGENCY

[EPA-HQ-OECA-2013-0352; FRL-9984-08-OEI]

Information Collection Request Submitted To OMB for Review and Approval; Comment Request; NESHAP for Industrial, Commercial, and Institutional Boilers and Process Heaters (Renewal)

AGENCY: Environmental Protection Agency (EPA).

ACTION: Notice.

SUMMARY: The Environmental Protection Agency (EPA) has submitted an information collection request (ICR), NESHAP for Industrial, Commercial, and Institutional Boilers and Process Heaters (EPA ICR No. 2028.09, OMB Control No. 2060-0551), to the Office of Management and Budget (OMB) for review and approval in accordance with the Paperwork Reduction Act. This is a proposed extension of the ICR, which is currently approved through November 30, 2018. Public comments were previously requested, via the Federal Register, on June 29, 2017, during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before December 31, 2018.

ADDRESSES: Submit your comments, referencing Docket ID Number EPA-HQ-OECA-2014-0078, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed either online at www.regulations.gov or in person at the EPA Docket Center, WJC West, Room 3334, 1301 Constitution Ave. NW, Washington, DC. The telephone number for the Docket Center is 202-566-1744. For additional information about EPA's public docket, visit: http://www.epa.gov/dockets.

Abstract: The National Emission Standards for Hazardous Air Pollutants (NESHAP) for Industrial, Commercial, and Institutional Boilers and Process Heaters apply to existing and new industrial, commercial, and institutional boilers and process heaters located at major sources of HAP. In general, all NESHAP standards require initial notifications, performance tests, and periodic reports by the owners/operators of the affected facilities. They are also required to maintain records of the occurrence and duration of any startup, shutdown, or malfunction in the operation of an affected facility, or any period during which the monitoring system is inoperative. These notifications, reports, and records are essential in determining compliance with 40 CFR part 63, DDDDD.

Form Numbers: None.

Respondents/affected entities: Industrial, commercial, and institutional boilers and process heaters.

Respondent's obligation to respond: Mandatory (40 CFR 63, subpart DDDDD).

Estimated number of respondents: 2,012 (total).

Frequency of response: Initially, semi-annually, annually, biennially, and every five years.

Total estimated burden: 597,000 hours (per year). Burden is defined at 5 CFR 1320.3(b).

Total estimated cost: $196,000,000 (per year), which includes $131,000,000 in annualized capital/startup and/or operation & maintenance costs.

Changes in the Estimates: There is an adjustment increase in the total estimated burden as currently identified in the OMB Inventory of Approved Burdens. This increase is not due to any program changes. The change in burden and cost estimates occurred because there is continued growth for certain subcategories of equipment subject to the standard. In addition, the standards have been in effect for more than three years and the requirements are different during initial compliance (new facilities) as compared to on-going compliance (existing facilities). The previous ICR reflected those burdens and costs associated with the initial activities for subject facilities and provided for the timeframe for existing facilities to come into compliance prior to January 31, 2016. This included purchasing monitoring equipment, conducting initial performance tests, and establishing recordkeeping systems. This ICR reflects the on-going burden and costs for existing facilities. Activities for existing sources include annual testing, continuous monitoring of pollutants, and the submission of semiannual, biennial, or five-year reports, as determined for each subcategory.

There is an adjustment decrease in the number of responses as compared with the previous ICR. This decrease is a result of removing some of the one-time response requirements for existing sources that have already met the initial compliance requirements. There is an overall increase in the total capital/startup and annual operation and maintenance costs compared with the previous ICR. These changes assume all existing sources have met the initial requirements of the rule. In addition, there are a small number of new facilities that are in the initial compliance phase described above.

Courtney Kerwin,
Director, Regulatory Support Division.

[FR Doc. 2018-26081 Filed 11-29-18; 8:45 am]

BILLING CODE 6560-50-P